NUCLEAR REGULATORY COMMISSION

[NRC-2009-0413]

Draft Regulatory Guide: Issuance, Availability

AGENCY: Nuclear Regulatory Commission.

ACTION: Notice of Issuance and Availability of Draft Regulatory Guide, DG-1225.

FOR FURTHER INFORMATION CONTACT: Jerome Bettle, U.S. Nuclear Regulatory Commission, Washington, DC 20555-0001, telephone: (301) 415-1314 or e-mail to Jerome.Bettle@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Instrument Lines Penetrating the Primary Reactor Containment,” is temporarily identified by its task number, DG-1225, which should be mentioned in all related correspondence. DG-1225 is proposed Revision 1 of Regulatory Guide 1.11, dated March 1971.

General Design Criterion (GDC) 55, “Reactor Coolant Pressure Boundary Penetrating Containment,” and GDC 56, “Primary Containment Isolation,” of Appendix A, “General Design Criteria for Nuclear Power Plants,” to Title 10, Part 50, “Domestic Licensing of Production and Utilization Facilities,” of the Code of Federal Regulations (10 CFR Part 50) require, in part, that each line that penetrates the primary reactor containment and that is part of the reactor coolant pressure boundary or connects directly to the containment atmosphere has at least one locked, closed isolation valve or one automatic valve inside and one automatic valve outside containment “unless it can be demonstrated that the containment isolation provisions for a specific class of lines, such as instrument lines, are acceptable on some other defined basis.” This guide defines a basis that the staff of the NRC considers acceptable to implement GDC 55 and 56 with regard to instrument lines. This guide applies to all types of nuclear power plants.

II. Further Information

The NRC staff is soliciting comments on DG-1225. Comments may be accompanied by relevant information or supporting data and should mention DG-1225 in the subject line. Comments submitted in writing or in electronic form will be made available to the public in their entirety through the NRC's Agencywide Documents Access and Management System (ADAMS).

Personal information will not be removed from your comments. You may submit comments by any of the following methods:

1. Mail comments to: Rulemaking and Directives Branch, MS TWB 05 B01M, Office of Administration, U.S. Nuclear Regulatory Commission, Washington, DC 20555-0001.

2. E-mail comments to: nrcrep.resource@nrc.gov.

3. Fax comments to: Rulemaking and Directives Branch, Office of Administration, U.S. Nuclear Regulatory Commission at (301) 492-3446.

Requests for technical information about DG-1225 may be directed to the NRC contact, Jerome Bettle at (301) 415-1314 or e-mail to Jerome.Bettle@nrc.gov.

Comments would be most helpful if received by November 16, 2009. Comments received after that date will be considered if it is practical to do so, but the NRC is able to ensure consideration only for comments received on or before this date. Although a time limit is given, comments and suggestions in connection with items for inclusion in guides currently being developed or improvements in all published guides are encouraged at any time.

Electronic copies of DG-1225 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090970530.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 14th day of September, 2009.
For the Nuclear Regulatory Commission.
Andrea D. Valentin,
Chief, Regulatory Guide Development Branch, Division of Engineering, Office of Nuclear Regulatory Research.

[FR Doc. E9-22601 Filed 9-18-09; 8:45 am]

BILLING CODE 7590-01-P